DEPARTMENT OF COMMERCE

Foreign-Trade Zones Board

[B-71-2016]

Foreign-Trade Zone 134—Chattanooga, Tennessee Application for Subzone Wacker Polysilicon North America LLC Charleston, Tennessee

An application has been submitted to the Foreign-Trade Zones Board (the Board) by the Chattanooga Chamber Foundation, grantee of FTZ 134, requesting subzone status for the facility of Wacker Polysilicon North America LLC, located in Charleston, Tennessee. The application was submitted pursuant to the provisions of the Foreign-Trade Zones Act, as amended (19 U.S.C. 81a-81u), and the regulations of the Board (15 CFR part 400). It was formally docketed on October 28, 2016.

The proposed subzone (564 acres) is located at 553 Wacker Blvd. NW., Charleston. A notification of proposed production activity has been submitted and is being processed under 15 CFR 400.37 (Doc. B-52-2016).

In accordance with the Board's regulations, Kathleen Boyce of the FTZ Staff is designated examiner to review the application and make recommendations to the Executive Secretary.

Public comment is invited from interested parties. Submissions shall be addressed to the Board's Executive Secretary at the address below. The closing period for their receipt is December 12, 2016. Rebuttal comments in response to material submitted during the foregoing period may be submitted during the subsequent 15-day period to December 27, 2016.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Kathleen Boyce at Kathleen.Boyce@trade.gov (202) 482-1346.

Dated: October 28, 2016.
Camille R. Evans,
Acting Executive Secretary.

[FR Doc. 2016-26473 Filed 11-1-16; 8:45 am]

BILLING CODE 3510-DS-P